DEPARTMENT OF THE TREASURY

Internal Revenue Service

26 CFR Parts 1 and 31

[REG-146893-02, REG-115037-00, REG-138603-03]

RIN 1545-BI78, 1545-BI80, 1545-BI79

Treatment of Services Under Section 482; Allocation of Income and Deductions From Intangibles; Stewardship Expense; Correction

AGENCY: Internal Revenue Service (IRS), Treasury.

ACTION: Correction to a notice of proposed rulemaking.

SUMMARY: This document contains a correction to a notice of proposed rulemaking (REG-146893-02, REG-115037-00, and REG-138603-03) that was published in the Federal Register, on Friday, August 4, 2006 (71 FR 44247) providing guidance regarding the treatment of controlled services transactions under section 482 and the allocation of income from intangibles, in particular with respect to contributions by a controlled party to the value of an intangible owned by another controlled party, and modifying the regulations under section 861 concerning stewardship expenses to be consistent with the changes made to the guidance under section 482.

FOR FURTHER INFORMATION CONTACT: Concerning REG-146893-02 and REG-115037-03, Carol B. Tan or Gregory A. Spring, (202) 435-5265; Concerning REG-138603-03, Richard L. Chewning, (202) 622-3850 (not toll-free numbers).

SUPPLEMENTARY INFORMATION:

Background

The notice of proposed rulemaking (REG-146893-02, REG-115037-00 and REG-138603-03) that is the subject of this document is under sections 482, 861, 6038, 6662, and 3121 of the Internal Revenue Code.

Need for Correction

As published, the notice of proposed rulemaking (REG-146893-02, REG-115037-00, and REG-138603-03) contains regulation identification numbers (RINs) that must be corrected.

Correction of Publication

Accordingly, the publication of a notice of proposed rulemaking (REG-146893-02, REG-115037-00, and REG-138603-03), which was the subject of FR Doc. 06-6674, is corrected as follows:

On page 44247, in the document heading, the language “RIN 1545-BB31, 1545-AY38, 1545-BC52” is corrected to read “RIN 1545-BI78, 1545-BI80, 1545-BI79”.

LaNita Van Dyke,
Chief, Publications and Regulations Branch, Legal Processing Division, Associate Chief Counsel (Procedure and Administration).

[FR Doc. E9-14927 Filed 6-24-09; 8:45 am]

BILLING CODE 4830-01-P